FEDERAL COMMUNICATIONS COMMISSION

[OMB 3060-1155; FR ID 80209]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before June 3, 2022. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION:

OMB Control Number: 3060-1155.

Title: Sections 15.709, 15.713, 15.714, 15.715 15.717, 27.1320, TV White Space Broadcast Bands.

Form No.: N/A.

Type of Review: Revision of a currently approved collection.

Respondents: Business or other for-profit entities.

Number of Respondents and Responses: 1,510 respondents; 3,500 responses.

Estimated Time per Response: 2 hours.

Frequency of Response: On occasion reporting requirement, recordkeeping requirement and third party disclosure requirement.

Obligation to Respond: Required to obtain or retain benefits. Statutory authority for this information collection is contained in 47 U.S.C. 4(i), 201, 302, and 303 of the Communications Act of 1934, as amended, 47 U.S.C. 154(i), 201, 302a, 303.

Total Annual Burden: 7,000 hours.

Total Annual Cost: $151,000.

Privacy Act Impact Assessment: No Impact(s).

Nature and Extent of Confidentiality: The Commission is not requesting respondents to submit confidential information to the Commission. Respondents may request confidential treatment of such information under 47 CFR 0.459 of the Commission's rules.

Needs and Uses: The Commission is submitting this information collection as a revision to the Office of Management and Budget (OMB) after this 60 day comment period in order to obtain the full three year clearance.

On January 25, 2022, the Commission adopted a Second Order on Reconsideration, Further Notice of Proposed Rulemaking, and Order in ET Docket Nos. 14-165, 20-36, 04-186 and GN Docket No. 12-268, FCC 22-6, that made changes to the requirements for how white space devices must interact with the white space database. The white space database determines which frequencies are available for unlicensed devices and is the primary means to prevent white space devices from causing harmful interference to TV reception and other protected services. The Commission eliminated the requirement for white space database administrators to “push” changes in channel availability information to white space devices. It instead requires fixed and Mode II personal/portable white space devices, other than narrowband devices, to re-check the white space database once per hour rather than once per day. The Commission retained a daily re-check requirement for mobile and narrowband devices but sought comment on whether to apply an hourly re-check requirement to these types of devices. The Commission also retained the requirement for white space database administrators to share licensed wireless microphone registration information with other database administrators within ten minutes after it is received, but moved this requirement to a different rule section.

The modified database administrator requirements, Section 15.715(l) are as follows:

§ 15.715 White space database administrator.

(l) If more than one database is developed, the database administrators shall cooperate to develop a standardized process for providing on a daily basis or more often, as appropriate, the data collected for the facilities listed in § 15.713(b)(2) to all other white space databases to ensure consistency in the records of protected facilities. In response to a request for immediate access to a channel by a licensed wireless microphone user, white space database administrators are required to share the licensed microphone channel registration information to all other white space database administrators within 10 minutes of receiving each wireless microphone registration.

On October 27, 2020, the Commission adopted a Report and Order and Notice of Proposed Rulemaking in ET Docket No. 20-36, FCC 20-156, that made targeted changes to the Part 15 rules for unlicensed white space devices in the TV bands to provide improved broadband coverage that will benefit American consumers in rural and underserved areas as well as to provide improved access to narrowband IoT applications while still protecting broadcast television stations from harmful interference. Specifically, the Commission permits higher EIRP and higher antenna HAAT for fixed white space devices in “less congested” geographic areas. In addition, the Commission permits higher power mobile operation within “geo-fenced” areas in “less congested” areas. The Order revised Section 15.709(g)(1)(ii) to increase the maximum permissible antenna height above average terrain for fixed white space devices on TV channels 2-35 in “less congested” areas from 250 meters to 500 meters.

The white space rules as amended by the 2020 White Spaces R&O require that fixed white space devices and installing parties comply with the following requirements with respect to the antenna height above average terrain:

15.709 General technical requirements.

(g) Antenna requirements—

(1) Fixed white space devices—

(ii) Height above average terrain (HAAT). For devices operating in the TV bands below 602 MHz, the transmit antenna shall not be located where its height above average terrain exceeds 250 meters generally, or 500 meters in less congested areas. For devices operating in all other bands the transmit antenna shall not be located where its height above average terrain exceeds 250 meters. The HAAT is to be calculated by the white space database using the methodology in § 73.684(d) of this chapter. For HAAT greater than 250 meters the following procedures are required:

(A) The installing party must contact a white space database and identify all TV broadcast station contours that would be potentially affected by operation at the planned HAAT and EIRP. A potentially affected TV station is one where the protected service contour is within the applicable separation distance for the white space device operating at an assumed HAAT of 50 meters above the planned height at the proposed power level.

(B) The installing party must notify each of these licensees and provide the geographic coordinates of the white space device, relevant technical parameters of the proposed deployment, and contact information.

(C) No earlier than four calendar days after this notification, the installing party may commence operations.

(D) Upon request, the installing party must provide each potentially affected licensee with information on the time periods of operations.

(E) If the installing party seeks to modify its operations by increasing its power level, by moving more than 100 meters horizontally from its location, or by making an increase in the HAAT or EIRP of the white space device that results in an increase in the minimum required separation distances from co-channel or adjacent channel TV station contours, it must conduct a new notification.

(F) All notifications required by this section must be in written form (including email). In all cases, the names of persons contacted, and dates of contact should be kept by the white space device operator for its records and supplied to the Commission upon request.

Federal Communications Commission.
Marlene Dortch,
Secretary, Office of the Secretary.

[FR Doc. 2022-07006 Filed 4-1-22; 8:45 am]

BILLING CODE 6712-01-P